INTERNATIONAL TRADE COMMISSION

[Investigation No. 337-TA-1009]

Certain Inflatable Products With Tensioning Structures and Processes for Making the Same; Commission Determination Not To Review an Initial Determination Terminating the Investigation Based on a Consent Order Stipulation and Proposed Consent Order; Issuance of Consent Order; Termination of the Investigation

AGENCY: U.S. International Trade Commission.

ACTION: Notice.

SUMMARY: Notice is hereby given that the U.S. International Trade Commission has determined not to review an initial determination (“ID”) (Order No. 6) of the presiding administrative law judge (“ALJ”) terminating the above-captioned investigation based upon a consent order stipulation and proposed consent order. The Commission has also determined to issue a consent order.

FOR FURTHER INFORMATION CONTACT: Robert Needham, Office of the General Counsel, U.S. International Trade Commission, 500 E Street SW., Washington, DC 20436, telephone (202) 708-5468. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on June 24, 2016, based on a complaint filed by Intex Recreation Corp. of Long Beach, California; and Intex Marketing Ltd. of Tortola, British Virgin Islands (together, “Intex”). 81 FR 41346-47. The complaint alleges that respondents Bestway (USA), Inc., of Phoenix, Arizona; Bestway Global Holdings, Inc. of Shanghai, China; Bestway (Hong Kong) International Ltd. of Hong Kong; Bestway Inflatables & Materials Corporation of Shanghai, China; and Bestway (Nantong) Recreation Corp. of Nantong, China (together, “Bestway”), are in violation of section 337 of the Tariff Act of 1930, as amended, 19 U.S.C. 1337, by reason of infringement of certain claims of U.S. Patent Nos. 8,562,773 and 9,156,203. Id. The Office of Unfair Import Investigations (“OUII”) is a party to the investigation. Id. at 41347.

On July 14, 2016, Bestway filed a motion to terminate the investigation based upon a consent order stipulation and proposed consent order. That same day, OUII filed a response arguing that the motion should be granted because it complies with the Commission Rules for consent orders and termination serves the public interest. Intex did not respond to the motion.

On July 25, 2016, the ALJ granted the motion in the subject ID. She found that the motion for termination by consent order stipulation complies with the requirements of Commission Rule 210.21(c) and is in the public interest. No petitions for review of the ID were received.

The Commission has determined not to review the subject ID and to issue a consent order. The investigation is terminated in its entirety.

The authority for the Commission's determination is contained in section 337 of the Tariff Act of 1930, as amended, 19 U.S.C. 1337, and in Part 210 of the Commission's Rules of Practice and Procedure, 19 CFR part 210.

By order of the Commission.
Issued: August 18, 2016.
Lisa R. Barton,
Secretary to the Commission.

[FR Doc. 2016-20200 Filed 8-23-16; 8:45 am]

BILLING CODE 7020-02-P